DEPARTMENT OF THE INTERIOR

National Park Service

[NPS-WASO-NAGPRA-NPS0033847; PPWOCRADN0-PCU00RP14.R50000]

Notice of Inventory Completion: University of Arkansas Museum Collections, Fayetteville, AR; Correction

AGENCY: National Park Service, Interior.

ACTION: Notice; correction.

SUMMARY: The University of Arkansas Museum Collections has corrected an inventory of human remains and associated funerary objects, published in a Notice of Inventory Completion in the Federal Register on November 13, 2018. This notice corrects the minimum number of individuals and the number of associated funerary objects. Lineal descendants or representatives of any Indian Tribe or Native Hawaiian organization not identified in this notice that wish to request transfer of control of these human remains and associated funerary objects should submit a written request to the University of Arkansas Museum Collections. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Arkansas Museum Collections at the address in this notice by June 21, 2022.

FOR FURTHER INFORMATION CONTACT: Mary Suter, University of Arkansas Museum Collections, Biomass Building 125, 2435 North Hatch Avenue, Fayetteville, AR 72704, telephone (479) 575-3456, email msuter@uark.edu.

SUPPLEMENTARY INFORMATION: Notice is here given in accordance with the Native American Graves Protection and Repatriation Act (NAGPRA), 25 U.S.C. 3003, of the correction of an inventory of human remains and associated funerary objects under the control of the University of Arkansas Museum Collections, Fayetteville, AR. The human remains and associated funerary objects were removed from multiple locations in Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (83 FR 56371-56374, November 13, 2018). This correction is being made to correct the counts of the minimum number of individuals and the number of associated funerary objects as listed in the original notice. Transfer of control of the items in this correction notice has not occurred.

Correction

In the Federal Register (83 FR 56372, November 13, 2018), column 1, paragraph 4, sentence 4 is corrected by substituting the following sentence:

The 105 associated funerary objects from the McDuffie Site (3CG21) in Craighead County, AR, are one ceramic jar and 104 ceramic sherds.

In the Federal Register (83 FR 56372, November 13, 2018), column 1, the following paragraph is inserted at the end of paragraph 5:

In 1931 and at an unknown date, human remains representing, at minimum, three individuals were removed from unknown sites in Conway County, AR. Accession records for these remains are incomplete. No known individuals were identified. The 53 associated funerary artifacts are two animal bones, 50 arrow points, and one bone awl.

In the Federal Register (83 FR 56372, November 13, 2018), column 1, paragraph 6, is corrected by substituting the following paragraph:

In 1933, human remains representing, at minimum, 41 individuals were removed from Togo/Neeley's Ferry Site (3CS24) in Cross County, AR. The human remains and associated funerary objects were excavated by the University of Arkansas Museum. No known individuals were identified. The 487 associated funerary objects are composed of 466 objects present in the Museum collections and 21 objects that are currently missing. The 466 associated funerary objects are one deer antler tine, one arrow point, two gar bill awls, two bone beads, 56 shell beads, 35 animal bones, 32 fish bones, three turkey bones, 19 ceramic bottles, 15 ceramic bowls, one charred corn, two discoidals, two ear bobs, one effigy bottle, three effigy bowls, 19 bone fish hooks, one fired clay object, nine ceramic jars, one matrix sample, 17 nails, one pebble, one pipe with charcoal, 205 pieces of a turtle shell rattle, 34 mussel shells, and three sherds. The University of Arkansas Museum continues to look for the missing 21 associated funerary objects, which are one bone awl, one bone bead, one shell bead, four ceramic bottles, six ceramic bowls, one shell ear plug, one effigy bottle, one bone ring, one gar scale, one shell ornament, two mussel shells, and one vessel.

In the Federal Register (83 FR 56372, November 13, 2018), column 2, paragraph 1, is corrected by substituting the following paragraph:

In 1933, human remains representing, at minimum, 107 individuals were removed from the Vernon Paul Site (3CS25) in Cross County, AR. These human remains and associated funerary objects were excavated by the University of Arkansas Museum. No known individuals were identified. The 687 associated funerary objects are composed of 655 objects present in the Museum collections and 32 objects that are currently missing. The 655 associated funerary objects are five deer antler fragments, one arrow point, nine bone awls, 171 shell beads, 29 animal bones, three bird bones, three turtle bones, 44 ceramic bottles, 44 ceramic bowls, 56 pieces of turtle carapace, three celts, one lot of charcoal, two cobbles, one corn, one daub, two ceramic discs, one stone discoidal, six shell ear plugs, 13 ceramic effigy bowls, one antler flaker, one hammer stone, one hematite stone, 21 ceramic jars, two bone needles, two pipes, two pottery supports, 151 pieces of a shell rattle, 12 mussel shells, 37 body sherds, 18 rim sherds, and 12 body sherds. The University of Arkansas Museum continues to look for the missing 32 associated funerary objects, which are one deer antler tine, one arrow point, one sample of ash, two bone awls, five shell beads, five ceramic bottles, two ceramic bowls, one corn cob, one ceramic disc, one shell ear bob, one lot of gravel, one ceramic jar, one pebble, one bone pin, three mussel shells, one sherd, and four ceramic vessels.

In the Federal Register (83 FR 56372, November 13, 2018), column 2, paragraph 2, sentence 1, is corrected by substituting the following sentence:

In 1950 and 1967, human remains representing, at minimum six individuals were removed from the Rose Mound Site (3CS27) in Cross County, AR.

In the Federal Register (83 FR 56372, November 13, 2018), column 2, paragraph 3, sentence 3, is corrected by substituting the following sentence:

The 73 associated funerary objects from the Delta Site (3CS69) are 21 gastropod shells, 42 mussel shells, and 10 ceramic sherds.

In the Federal Register (83 FR 56372, November 13, 2018), column 3, paragraph 1, is corrected by substituting the following paragraph:

In 1932, human remains representing, at minimum, 17 individuals were removed from the Wapanocca Mound Site (3CT9) in Crittenden County, AR. These human remains and associated funerary objects were excavated by the University of Arkansas Museum. No known individuals were identified. The 59 associated funerary objects are composed of 48 objects present in the Museum collections and 11 objects that are currently missing. The 48 associated funerary objects are one animal bone, nine ceramic bottles, eight ceramic bowls, two ceramic effigy bowls, seven ceramic jars, one mano, three mussel shells, and 17 sherds. The University of Arkansas Museum continues to look for the missing 11 associated funerary objects, which are four ceramic bottles, two ceramic bowls, one discoidal, two mussel shells, one sherd, and one vessel.

In the Federal Register (83 FR 56372, November 13, 2018), column 3, paragraph 2, is corrected by substituting the following paragraph:

In 1932 and at an unknown date, human remains representing, at minimum, 39 individuals were removed from the Banks Site (3CT13) in Crittenden County, AR. The human remains removed from the site in 1932 were excavated by the University of Arkansas Museum. In 1960, the University of Arkansas Museum received two separate donations of additional human remains from this site. No known individuals were identified. The 10 associated funerary objects are three animal bones, one ceramic bottle, and six sherds.

In the Federal Register (83 FR 56372, November 13, 2018), column 3, paragraph 3, is corrected by substituting the following paragraph:

In 1932, human remains representing, at minimum, nine individuals were removed from the Barton Ranch Site (3CT18) in Crittenden County, AR. These human remains and associated funerary objects were excavated by the University of Arkansas Museum. No known individuals were identified. The 14 associated funerary objects are one deer antler tine, four ceramic bottles, four ceramic bowls, two ceramic effigy bowls, 2 ceramic jars, and one vessel.

In the Federal Register (83 FR 56372, November 13, 2018), column 3, paragraph 4, sentences 4, 5, and 6, are corrected by substituting the following sentences:

The 167 associated funerary objects are composed of 146 objects present in the Museum collections and 21 objects that are currently missing. The 146 associated funerary objects are three deer antler tines, three arrow points, one sample of ash, three bone awls, two bird bones, 12 ceramic bottles, 18 ceramic bowls, two ceramic discs, five effigy bowls, five effigy jars, one hammer stone, eight ceramic jars, one lump of clay, one unidentified object, 44 pebbles, 10 mussel shells, 18 pieces of turtle shell and bone, nine ceramic body sherds. The University of Arkansas Museum continues to look for the missing 21 associated funerary objects, which are three ceramic bottles, 10 ceramic bowls, one sample of charcoal, one mussel shell, two sherds, two vessels, and two effigy vessels.

In the Federal Register (83 FR 56372, November 13, 2018), column 3, paragraph 5, is corrected by deleting the entire paragraph.

In the Federal Register (83 FR 56373, November 13, 2018), column 1, paragraph 2 is corrected by substituting the following paragraph:

In 1932, human remains representing, at minimum, four individuals were removed from the Warner Smith Place Site (3CT44) in Crittenden County, AR. These human remains and associated funerary objects were excavated by the University of Arkansas Museum. No know individuals were identified. The eight associated funerary objects are composed of six objects present in the Museum collections and two objects that are currently missing. The six associated funerary objects are one ceramic bottle, two cobbles, one ceramic jar, one pipe, and one rim sherd. The University of Arkansas Museum continues to look for the missing two associated funerary objects, which are one ceramic bottle and one ceramic bowl.

In the Federal Register (83 FR 56373, November 13, 2018), column 1, paragraph 3, sentence 3 is corrected by substituting the following sentence:

The 26 associated funerary objects are one biface and 25 arrow points.

In the Federal Register (83 FR 56373, November 13, 2018), column 1, paragraph 5 is corrected by substituting the following paragraph:

In 1932, human remains representing, at minimum, 17 individuals were removed from the Middle Nodena Site (3MS3) in Mississippi County, AR. These human remains and associated funerary objects were excavated by the University of Arkansas Museum. No known individuals were identified. The 32 associated funerary objects are composed of 30 objects present in the Museum collections and two objects that are currently missing. The 30 associated funerary objects are two shell beads, one fish bone, eight ceramic bottles, six ceramic bowls, one effigy bottle, one effigy bowl, two jars, three mussel shells, and six rim sherds. The University of Arkansas Museum continues to look for the missing two associated funerary objects, which are one ceramic bottle and one ceramic bowl.

In the Federal Register (83 FR 56373, November 13, 2018), column 1, paragraph 6, sentence 4 is corrected by substituting the following sentences:

The 153 associated funerary objects are composed of 138 objects present in the Museum collections and 15 objects that are currently missing. The 138 associated funerary objects are two arrow points, seven bone awls, 33 shell beads, 21 ceramic bottles, 16 ceramic bowls, nine celts, four ceramic discs, one discoidal, two ear plugs, two effigy bottles, seven effigy bowls, three effigy jars, one hammer stone, one piece of hematite, 11 ceramic jars, one pendant, one pipe, one mussel shell, five body sherds, nine rim sherds, and one ceramic sphere. The University of Arkansas Museum continues to look for the missing 15 associated funerary objects, which are one deer antler tine, one arrow point, one antler awl, one animal bone, one ceramic bottle, five ceramic bowls, one ear plug, one effigy bowl, one ceramic jar, one mussel shell, and one vessel.

In the Federal Register (83 FR 56373, November 13, 2018), column 2, paragraph 1 is corrected by substituting the following paragraph:

In 1953, human remains representing 24 individuals were removed from the Gant Site (3MS11) in Mississippi County, AR. These human remains and associated funerary objects were excavated by the University of Arkansas Museum. No known individuals were identified. The 20 associated funerary objects are eight animal bones, two ceramic bottles, five ceramic bowls, four ceramic jars, and one sherd.

In the Federal Register (83 FR 56373, November 13, 2018), column 2, paragraph 2, sentence 1 is corrected by substituting the following sentence:

At an unknown date, human remains representing, at minimum, 105 individuals were removed from the Golden Lake Site (3MS60) in Mississippi County, AR.

In the Federal Register (83 FR 56373, November 13, 2018), column 2, paragraph 3, sentence 4 is corrected by substituting the following sentences:

The 17 associated funerary objects are composed of 16 objects present in the Museum collections and one object that is currently missing. The 16 associated funerary objects are seven pot sherds and nine fire-cracked rock pieces. The University of Arkansas Museum continues to look for the missing associated funerary object, which is a ceramic bowl.

In the Federal Register (83 FR 56373, November 13, 2018), column 3, paragraph 1 is corrected by substituting the following paragraph:

In 1961, human remains representing, at minimum, one individual was removed from the Castile Landing Site (3SF12) in St. Francis County, AR. The human remains removed in 1961 were excavated by the University of Arkansas Museum. No known individual was identified. No associated funerary objects are present.

In the Federal Register (83 FR 56373, November 13, 2018), column 3, paragraph 2 is corrected by deleting the entire paragraph.

In the Federal Register (83 FR 56373, November 13, 2018), column 3, paragraph 3, sentence 1 is corrected by substituting the following sentence:

At an unknown date, human remains representing, at minimum, three individuals were removed from the Hollingsworth Place Site (3WH2) in White County, AR.

In the Federal Register (83 FR 56373, November 13, 2018), column 3, paragraph 7, sentences 4 is corrected by substituting the following sentence:

The three associated funerary objects are one ceramic bowl and two ceramic jars.

In the Federal Register (83 FR 56374, November 13, 2018), column 1, paragraph 1, is corrected by substituting the following paragraph:

In 1933, 1964, and 1969, human remains representing, at minimum, 260 individuals were removed from the Hazel Site (3PO6) in Poinsett County, AR. These human remains and associated funerary objects were excavated by the University of Arkansas Museum. In 1967, human remains representing, at minimum, one individual were removed from the Hazel Site. These human remains were donated to the University Museum. No known individuals were identified. The 1,318 associated funerary objects are composed of 1,266 objects present in the Museum collections and 52 objects that are currently missing. The 1,266 associated funerary objects are one abrader, six deer antler tines, one arrow point, one artifact sample, two bone awls, one axe, one basketry fragment, 30 bone beads, two ceramic beads, four crinoid beads, 439 shell beads, 83 animal bones, three bird bones, 118 fish bones, 78 ceramic bottles, 83 ceramic bowls, two non-vessel ceramic objects, two lots of charcoal, two clay lumps, two sheets of copper, one corn cob, nine pieces of daub, three ceramic discs, eight ear plugs, two effigy bottles, 12 effigy bowls, one effigy jar, one shell gorget, 43 ceramic jars, one knife, one antler knife, one bone needle, one copper ornament, one shell pendant, 21 bone pins, three pipes, 35 gar scales, two samples of sediment, 26 mussel shells, four pieces of turtle shell, 219 ceramic sherds, one painted stone, two textiles, three animal teeth, two twigs, and two partial vessels. The University of Arkansas Museum continues to look for the missing 52 associated funerary objects, which are one deer antler tine, one artifact sample, one bird bill awl, one bone awl, three shell beads, two worked bones, eight ceramic bottles, 11 ceramic bowls, one ceramic non-vessel objects, one lot of charcoal, one sheet of copper, three ear plugs, one effigy bottle, four effigy bowls, one bone needle, one pipe, four mussel shells, one sherd, and six vessels.

In the Federal Register (83 FR 56374, November 13, 2018) column 2, paragraph 1 under the heading “Determinations Made by the University of Arkansas Museum” is corrected by substituting the following sentences:

• Pursuant to 25 U.S.C. 3001(9), the human remains described in this notice represent the physical remains of 800 individuals of Native American ancestry.

• Pursuant to 25 U.S.C. 3001 (3)(A), the 3,346 objects described in this notice are reasonably believed to have been placed with or near individual human remains at the time of death or later as part of the death rite or ceremony. (Only 3,189 associated funerary objects have been located at this time.)

Additional Requestors and Disposition

Lineal descendants or representatives of any Indian Tribe or Native Hawaiian organization not identified in this notice that wish to request transfer of control of these human remains and associated funerary objects should submit a written request with information in support of the request to Mary Suter, University of Arkansas Museum Collections, Biomass Building 125, 2435 North Hatch Avenue, Fayetteville, AR 72704, telephone (479) 575-3456, email msuter@uark.edu, by June 21, 2022. After that date, if no additional requestors have come forward, transfer of control of the human remains and associated funerary objects to the Quapaw Nation (previously listed as The Quapaw Tribe of Indians) may proceed.

The University of Arkansas Museum Collections is responsible for notifying the Quapaw Nation (previously listed as The Quapaw Tribe of Indians) that this notice has been published.

Dated: April 27, 2022.
Melanie O'Brien,
Manager, National NAGPRA Program.

[FR Doc. 2022-09893 Filed 5-19-22; 8:45 am]

BILLING CODE 4312-52-P